DEPARTMENT OF HEALTH AND HUMAN SERVICES

Health Resources and Services Administration

National Advisory Council on Migrant Health

AGENCY: Health Resources and Services Administration (HRSA), Department of Health and Human Services (HHS).

ACTION: Notice of meeting.

SUMMARY: In accordance with the Federal Advisory Committee Act, notice is hereby given that a National Advisory Council on Migrant Health (NACMH) meeting has been scheduled. This meeting will be open to the public. The agenda for the NACMH meeting can be obtained by contacting the Designated Federal Officer (DFO) or accessing the NACMH website: https://bphc.hrsa.gov/qualityimprovement/strategicpartnerships/nacmh/index.html.

DATES: The meeting will be held on May 8, 2018, 8:30 a.m.-5:30 p.m., and May 9, 2018, 9:30 a.m.-5:30 p.m.

ADDRESSES: The address for the meeting is Holiday Inn Downtown Yakima, 802 East Yakima Ave., Yakima, WA 98901. Phone Number: 509-494-7000.

FOR FURTHER INFORMATION CONTACT: All requests for information regarding the NACMH should be sent to Esther Paul, DFO, NACMH, HRSA, in one of three ways: (1) Send a request to the following address: Esther Paul, Office of Policy and Program Development, Bureau of Primary Health Care, HRSA, 5600 Fishers Lane, 16N38B, Rockville, Maryland 20857; (2) call (301) 594-4300; or (3) send an email to epaul@hrsa.gov.

SUPPLEMENTARY INFORMATION: The NACMH is a non-discretionary advisory body mandated by the Public Health Service Act (PHSA), Title 42 U.S.C. 218, to advise, consult with, and make recommendations to the Secretary of HHS and the Administrator of HRSA regarding the organization, operation, selection, and funding of migrant health centers and other entities funded under section 330(g) of the PHSA (42 U.S.C. 254b). The Charter requires NACMH to meet at least twice per year to discuss services and issues related to the health of migrant and seasonal agricultural workers and their families and to formulate their recommendations to the HHS Secretary and HRSA Administrator.

Agenda: The agenda includes an overview of NACMH's general business activities. NACMH will also hear presentations from a Federal official and experts on issues facing agricultural workers, including the status of agricultural worker health at the local and national levels. Topics addressed at this meeting include:

I. Migrant and Seasonal Agricultural Worker Regional Health Issues/Trends; and

II. Occupational and Environmental Hazards and Injuries Impacting Migrant and Seasonal Agricultural Worker Health.

In addition, NACMH will hold a session where migratory and seasonal agricultural workers will comment on matters affecting the health of migratory and seasonal agricultural workers. This session is scheduled for Tuesday, May 8, 2018, from 1:30 p.m. to 5:00 p.m. at the Holiday Inn Downtown Yakima, Yakima, WA. Agenda items are subject to change as priorities dictate.

Members of the public will not be able to provide oral comments during the meeting. Written questions or comments for the NACMH may be sent to the DFO by April 24, 2018, using the address and phone number provided above. Individuals who plan to attend the meeting and need special assistance, such as sign language interpretation or other reasonable accommodations, should notify the DFO at least 10 days prior to the meeting.

Dated: April 6, 2018.
Lori Roche,
Acting Deputy Director, Division of the Executive Secretariat.

[FR Doc. 2018-07523 Filed 4-11-18; 8:45 am]

BILLING CODE 4165-15-P